DEPARTMENT OF AGRICULTURE

Forest Service

Intent To Prepare an Environmental Impact Statement; Umatilla National Forest, Walla Walla Ranger District; Oregon;

Tollgate Fuels Reduction Project

AGENCY: Forest Service, USDA.

ACTION: Notice of Intent.

SUMMARY: On October 19, 2010, the Forest Service published a notice of intent to prepare an environmental impact statement for the Tollgate Fuels Reduction Project in the Federal Register. The project is located within the Upper 204/Tollgate Wildland Urban Interface as identified in the Umatilla County Community Wildfire Protection Plan (CWPP), as amended. The project planning area encompasses approximately 46,000 acres and is situated approximately 40 miles south/southwest of Walla Walla, Washington. The project has been planned and will be implemented using the authorities of the Healthy Forest Restoration Act (HFRA) of 2004.

After the initial request for public comment on the Tollgate proposal subsequent analysis identified two additional actions that needed to be incorporated into the Tollgate Fuels Reduction Project:

• Amend the Umatilla National Forest Land and Resource Management Plan (Forest Plan): There is need to prepare a site specific amendment to the Umatilla National Forest Land and Resource Management Plan (Forest Plan). The proposed amendment will focus on the entry and treatment of fuels within select Riparian Habitat Conservation Areas (RHCAs). RHCA treatment is only proposed for the following units of the Tollgate Fuels Reduction Project- units 38, 75, 19, 66, and 61. These units were included on the map which accompanied the original scoping of this project, but we were not aware of the need for a Forest Plan Amendment until we had spent more time on the ground in these units. The proposed action does not propose any additional treatments within any RHCAs not contained in units listed above. All other RHCA will have the appropriate PACFISH buffers applied.

• Realignment of Forest Road 3718155: During subsequent review of public comments and associated road use needs to accomplish the fuels reduction objectives, it was determined that a realignment of a 0.35 mile segment of FR 3718155 would be required. Approximately 0.35 miles of FR is inside the RHCA of a perennial non-fishbearing stream and has a native surface (soil). The road is adjacent to a spring and the roadbed is saturated for much of the year in that location. As part of the Tollgate proposed action, this segment of road would be moved to an upland site which occurs outside of the RHCA. The existing segment of road would be decommissioned and rehabilitated. These actions would occur prior to the implementation of fuels reduction activities within the area. FR 3718155 is listed as a closed road by the Walla Walla RD Access and Travel Management Plan. This realignment activity would not change its Access and Travel Management status. Following the completion of fuels reduction activities, FR 3718155 will be gated and will retain its current status as a closed road.

The Forest Service is inviting interested members of the public to comment on the abovementioned additions to the Tollgate Fuels Reduction Project.

DATES: Comments concerning the scope of the analysis must be received by October 6, 2011. The Draft EIS is expected to be filed with the Environmental Protection Agency (EPA) and be available to the public for review by February 2012. The Final EIS is scheduled to be completed by July 2012.

ADDRESSES: Send written comments to Kevin Martin, Forest Supervisor, c/o Michael Rassbach, District Ranger, Walla Walla Ranger District, Umatilla National Forest,1415 W. Rose, Walla Walla, WA. Comments may also be sent via e-mail to comments-pacificnorthwest-umatilla @fs.fed.us., or via facsimile to 509-522-6000.

It is important that reviewers provide their comments at such times and in such a way that they are useful to the Agency's preparation of the EIS. Therefore, comments should be provided prior to the close of the comment period and should clearly articulate the reviewer's concerns and contentions.

Comments received in response to this solicitation, including names and addresses of those who comment, will become part of the public record for this proposed action. Comments submitted anonymously will be accepted and considered; however, anonymous comments will not provide the respondent with standing to participate in subsequent administrative objection process or judicial review.

FOR FURTHER INFORMATION CONTACT: Kimpton Cooper, Environmental Coordinator, Walla Walla Ranger District, 1415 W. Rose, Walla Walla, WA 99362. He can be reached by phone at (509) 522-6290 or by e-mail at kmcooper@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The Tollgate planning area is situated on a high plateau between the North Fork Umatilla Wilderness and the South Fork Walla Walla River. The Tollgate plateau is surrounded on all sides by very steep and deep canyons. The plateau area falls primarily into fire regime 4, based on species composition, and suggests the occurrence of mixed to high severity fire events with long return intervals. Private lands and in-holdings are adjacent to, and interspersed with National Forest System lands.

The Tollgate WUI is comprised of approximately 368 residences, 43 privately owned cabins under NFS special use permit, 4 NFS campgrounds, 6 trailheads, 1 ski area, 4 snowparks and other FS facilities. The area is one of the heaviest used recreation areas on the entire Umatilla NF. In addition, there are numerous non-recreation uses of the area. Important local and regional infrastrature (fiber optic lines, telephone lines, power transmission lines, and communication equipment) is interspersed throughout the WUI. Oregon State Highway 204 bisects the Tollgate community and provides a major transportation route, linking it to Elgin, OR in the south, and Milton-Freewater/Pendleton, OR in the north. Highway 204 also provides an important commercial shipping route that facilitates the flow of goods and services between Union and Umatilla counties.

Tollgate's geographic positioning, relative to large tracts of remote and inaccessible roadless and wilderness areas, makes for a uniquely positioned community, and is an important contributing factor to the area's overall need for treatment. In many cases, wilderness and roadless areas occur at higher elevations and are well removed, from communities. Tollgate however sits above large tracts of both roadless and wilderness areas. Wildfires can initiate in these remote places, gain intensity, and ultimately emerge onto the plateau.

An accounting of the condition of existing vegetation within the analysis area has shown that these stands are very receptive to the initiation of high severity crown fire. The stands are also likely to sustain high severity crown fire that may emerge from the surrounding wilderness and roadless areas. Field reconnaissance of each prospective unit was performed, and showed that the structure, composition, arrangement, and dynamics of the present vegetation indicate an area highly susceptible to experiencing severe fire events.

A strong need for treatment exists. A community, important infrastructure and a major transportation cooridor representvaluesthat are at risk. The area's infrastructure is located above, and in the path of major fire travel routes. The community is situated amongst vegetation that is poised to burn with severity.

It is unlikely that high severity fire events can be stopped from occurring in fire regime 4; however, through the implementation of fuels reduction treatments property, infrastructure, and lives may be more effectively protected. Treatments resulting in modified fuel configurations in strategic locations can lessen the impacts of a major fire event to the people, infrastructure, and travel routes within Tollgate.

The following project objectives were identified based on the intent of the 2004 Healthy Forest Restoration Act, the Umatilla County CWPP, and goals brought forth through public collaborative efforts:

• Lower fire hazard, by reducing overall fuel load and reducing the vertical and horizontal continuity of fuels within the project planning area.

• Improve protection to adjacent private lands and public/private infrastructure from a wildfire event.

• Provide safe egress of local residents and safe ingress/egress for firefighters during wildfire events.

• Effect immediate change in fire behavior within the Tollgate WUI by reducing fuels and creating strategic fuel breaks.

• Prepare a site specific Forest Plan amendment to allow entry and treatment of fuels within select Riparian Habitat Conservation Areas (RHCAs). RHCA treatment is only proposed for the following units of the Tollgate Fuels Reduction Project—units 38, 75, 19, 66, and 61.

Proposed Action

The Forest Service proposes to conduct fuels reduction activities on approximately 4,400 acres within the Tollgate project planning area. Fuel reduction efforts would be implemented through the use of commerical timber harvest (3,050 acres) and non-commercial thinning (1,350 acres). Fuel reduction prescriptions include crown reduction, dead and down material removal, and ladder fuel reduction.

The project also includes fuel reduction activities in three (3) Riparian Habitat Conservation Areas (RHCAs) of strategic importance. There are treatments proposed along Oregon State Highway 204, designed to improve the defensibility of this important travel cooridor. Treatments are also proposed within the Lookingglass Inventoried Roadless Area (IRA). The proposed treatments are targeted on the edge of IRA boundary where it coincides with private inholdings and Forest Road 6400. No actions are proposed within either the North Fork Umatilla Wilderness or Walla Walla River Inventoried Roadless Area.

The project will realign approximately 0.35 miles of Forest Road 3718155 out of the RHCA of a fish-bearing stream to an upland site.

Responsible Official

Forest Supervisor, Kevin Martin.

Nature of Decision To Be Made

The responsible official will decide:

(1) Whether fuels reduction activities should occur, and if so, how much, when and where.

(2) What monitoring and mitigation measures should be taken or are needed.

(3) Whether or not to amend the Umatilla National Forest Land and Resource Management Plan.

Scoping Process

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

It should be noted that HFRA set up a pre-decisional objection process. Individual wishing to have standing to participate in the objection process must submit written comments either at this time (public scoping) or during the comment period for the Draft EIS.

Dated: August 23, 2011.
Kevin D. Martin,
Forest Supervisor.

[FR Doc. 2011-21971 Filed 9-2-11; 8:45 am]

BILLING CODE 3410-11-P